DEPARTMENT OF ENERGY

Financial Assistance Solicitation for Research and Development for Fuel Cells for Stationary and Automotive Applications

AGENCY: Chicago Operations Office, DOE.

ACTION: Notice of availability of a financial assistance solicitation.

SUMMARY: The U.S. Department of Energy (DOE) is announcing its intention to solicit applications for financial assistance for cost shared research and development of technologies that will enhance research and development in fuel cell technology. The DOE Office of Hydrogen, Fuel Cells and Infrastructure Technologies seeks industry cost-shared projects that address research needs in building fuel cell systems; fuel cells for back up power; materials for high temperature membranes; fuel cell component durability; water and thermal management; fuel processing; and catalysts.

DATES: The solicitation will be available on DOE's “Industry Interactive Procurement System” (IIPS) Web page located at http://e-center.doe.gov under the “HELP” section of the web site. Applicants must register in IIPS prior to submitting an application. Only registered users will have the capability to transmit their applications in a responsive matter. Applicants are strongly encouraged to register with IIPS as soon as possible prior to the application deadline. All applications must have an IIPS transmission stamp of not later than 11:59 p.m. Eastern Time on November 27, 2002. Applicants are advised to begin transmission 24 hours in advance of the deadline in order to prevent any transmission difficulties.

ADDRESSES: The solicitation and any subsequent amendments will be published on the above mentioned Internet address. All applications shall be submitted through IIPS in accordance with the instructions provided in the solicitation.

FOR FURTHER INFORMATION CONTACT: Nadine Kijak at (630) 252-2508; by mail at U.S. Department of Energy, 9800 South Cass Avenue, Argonne, IL 60439-4899; by facsimile at (630) 252-5045; or by electronic mail at Nadine.Kijak@ch.doe.gov.

SUPPLEMENTARY INFORMATION:

Background

The combined residential and commercial Buildings sector accounts for approximately 36% of the U.S. primary energy consumption and between 30% and 40% of all airborne emissions. These factors are the driving force behind DOE's efforts to develop high efficiency polymer electrolyte membrane (PEM) fuel cell power systems as an alternative power source to grid-based electricity for buildings. The Buildings sector provides a diverse set of application requirements over a wide power range that can be met by PEM fuel cell systems. DOE seeks applications from qualified developers of PEM fuel cell power systems to develop and test a stationary fuel cell power system for a market-driven building application that simultaneously addresses DOE priorities of lowering energy consumption and emissions. Also included in the solicitation are cross-cutting areas which apply to fuel cell technology for stationary and transportation applications, such as high temperature membranes, durability, and catalysts.

A workshop was held on April 10-11, 2002 regarding Fuel Cells for Buildings and Stationary Applications. The proceedings from this workshop are available on the following web site: http://www.eren.doe.gov/hydrogen/, under the “What's New” section. A summary of the research and development work regarding Fuel Cells for Transportation Applications is available on the following Web site:

• http://www.cartech.doe.gov/research/fuelcells/index.html, under

• 2001 Annual Progress Report: Transportation Fuel Cell Power Systems, Part 1 (6Mb pdf)

• 2001 Annual Progress Report: Transportation Fuel Cell Power Systems, Part 2 (5Mb pdf)

Research and Development Solicitation Topics: Responsive projects will cross-cut several technological and methodological roadmap areas including, but not limited to, the development of a stationary PEM fuel cell power system for buildings, development of a back-up fuel cell system; PEM stack durability; development of materials for high temperature membranes; reduction of membrane cost; fuel processing; water and thermal management; fuel cell demonstration; platinum recycling; and development of non-precious metal catalysts and a fuel cell economic analysis.

Type and Number of Anticipated Awards: Awards under this solicitation will be cooperative agreements with a term of up to five years. Subject to the availability of funds, DOE is planning to allocate approximately $7 million in fiscal year 2003 for the selected projects. It is estimated that up to 20 projects may be selected for cost-shared cooperative agreements. Subject to the availability of funds, total estimated Government funding for the solicitation is approximately $70 million for the maximum five-year period.

Application Requirements: Where the nature of the work demands multi-disciplinary expertise, teaming arrangements are preferred. For the development of a stationary fuel cell power system and the fuel cell demonstration topics, at least one partner of the multi-partner team is required to be a utility. For the back-up fuel cell system topic, at least one partner of the multi-partner team is required to be the host organization for the field test. For the improvement of high temperature membranes topic, at least one partner of the multi-partner team is required to be a university.

To be eligible for award under this solicitation, applicants will be required to contribute a non-federal cost share of 20-50% of the yearly project costs to be incurred under the proposed project, depending upon specific topic area selected, as specified in the solicitation. Prior costs incurred (i.e., costs to conduct prior research or development, patents, or to develop technical reports under previous research efforts) should not be proposed and will not be considered as cost share.

In addition to the foregoing, other evaluation and selection criteria will be identified in the solicitation. DOE solicitation and selection procedures are set forth in 10 CFR 600. The full text of 10 CFR part 600 Financial Assistance Rules are located at http://www.access.gpo.gov/nara/cfr/waisidx_00/10cfr600_00.html.

Once released, the solicitation will be available for downloading from the IIPS Internet page. At this Internet site you will also be able to register with IIPS, enabling you to submit an application. If you need technical assistance in registering or for any other IIPS function, call the IIPS Help Desk at (800) 683-0751 or e-mail the Help Desk personnel at IIPS HelpDesk@e-center.doe.gov. The solicitation will only be made available in IIPS, no hard (paper) copies of the solicitation and related documents will be made available.

Issued in Argonne, Illinois, on September 16, 2002.
John D. Greenwood,
Assistant Manager for Acquisition and Assistance.

[FR Doc. 02-24079 Filed 9-20-02; 8:45 am]

BILLING CODE 6450-01-P